DEPARTMENT OF TRANSPORTATION

Federal Aviation Administration

Notice of Intent To Rule on Application To impose and Use the Revenue From a Passenger Facility Charge (PFC) at Reno/Tahoe International Airport, Reno, NV

AGENCY: Federal Aviation Administration (FAA), DOT.

ACTION: Notice of intent to rule on application.

SUMMARY: The FAA proposes to rule and invites public comment on the application to impose and use a PFC at Reno/Tahoe International Airport under the provisions of the Aviation Safety and Capacity Expansion Act of 1990 (Title IX of the Omnibus Budget Reconciliation Act of 1990) (Pub. L. 101-508) and part 158 of the Federal Aviation Regulations (14 CFR part 158).

DATES: Comments must be received on or before July 7, 2003.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Mr. Christopher Horton, Manager of Finance, Airport Authority of Washoe County, at the following address: 2001 East Plumb Lane, Reno, NV 89502. Air carriers and foreign air carriers may submit copies of written comments previously provided to the Airport Authority of Washoe County under section 158.23 of part 158.

FOR FURTHER INFORMATION CONTACT: Marlys Lingsch, Airports Program Analyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at Reno/Tahoe International Airport under the provisions of the Aviation Safety and Capacity Expansion Act of 1990 (Title IX of the Omnibus Budget Reconciliation Act of 1990) (Pub. L. 101-508) and Part 158 of the Federal Aviation Regulations (14 CFR part 158).

On May 16, 2003, the FAA determined that the application to impose and use a PFC submitted by the Airport Authority of Washoe County was substantially complete within the requirements of section 158.25 of Part 158. The FAA will approve or disapprove the application, in whole or in part, no later than August 20, 2003.

The following is a brief overview of the impose and use application No. 03-07-C-00-RNO:

Level of proposed PFC: $4.50.

Proposed charge effective date: November 1, 2003.

Proposed charge expiration date: March 1, 2006.

Total estimated PFC revenue: $21,188,948.

Brief description of the proposed impose only project: Southern Central Disposal Facility; Airfield Maintenance Replacement Facilities; 3.6 Acres Wetlands Mitigation Bank; and 10 Acres Wetlands Mitigation Bank. Brief description of the proposed impose and use projects: Design of Terminal Apron Reconstruction; Terminal Apron Reconstruction-Phase VI; Replace Four Jet Bridges; Ground Service Equipment Ramp Pavement Reconstruction; Replace Chiller No. 2 Mechanical System Master Plan; Geographic Information System; and Second Floor Concourse Build Out.

Class or classes of air carriers which the public agency has requested not be required to collect PFC's: Nonscheduled/on-demand air carriers filling FAA Form 1800-31 and Foreign Flag Carriers filing DOT Form T-100(F).

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the Airport Authority of Washoe County.

Issued in Hawthorne, California, on May 16, 2003.
Mark McClardy,
Acting Manager, Airports Division, Western-Pacific Region.

[FR Doc. 03-14075 Filed 6-3-03; 8:45 am]

BILLING CODE 4910-13-M